DEPARTMENT OF EDUCATION

Advanced Placement Incentive Program; Office of Elementary and Secondary Education; Overview Information; Advanced Placement Incentive Program; Notice Inviting Applications for New Awards for Fiscal Year (FY) 2011

Catalog of Federal Domestic Assistance (CFDA) Number: 84.330C.

DATES:

Applications Available: March 16, 2011.

Deadline for Notice of Intent to Apply: April 15, 2011.

Deadline for Transmittal of Applications: May 16, 2011.

Deadline for Intergovernmental Review: July 14, 2011.

Full Text of Announcement

I. Funding Opportunity Description

Purpose of Program: The Advanced Placement Incentive (API) program awards competitive grants designed to increase the successful participation of low-income students in advanced placement courses and tests. The program expands opportunities for low-income students to take college-level classes and earn college credit while still in high school. The program also supports efforts to raise the rigor of the academic curriculum for all students attending high-poverty schools.

Priorities: This competition includes two absolute priorities and one competitive preference priority.

Absolute Priority 1: Promoting Science, Technology, Engineering, and Mathematics (STEM) Education and the competitive preference priority are from the notice of final supplemental priorities and definitions for discretionary grant programs, published in the Federal Register on December 15, 2010 (75 FR 78486) (2010 NFP). In accordance with 34 CFR 75.105(b)(2)(iv), Absolute Priority 2: Expanding Access for Low-Income Individuals to Advanced Placement Programs is from section 1705(c) of the Elementary and Secondary Education Act of 1965, as amended (ESEA), 20 U.S.C 6535(c).

Absolute Priorities: For FY 2011 and any subsequent year in which we make awards from the list of unfunded applicants from this competition, these priorities are absolute priorities. Under 34 CFR 75.105(c)(3) we consider only applications that meet these priorities.

These priorities are:

Absolute Priority 1: Promoting Science, Technology, Engineering, and Mathematics (STEM) Education

Projects that are designed to address the following priority area:

Providing students with increased access to rigorous and engaging coursework in STEM.

Note: The Advanced Placement Incentive program is designed to increase successful participation of low-income students in advanced placement courses and tests. Consequently, in responding to this priority, applicants must demonstrate how the project is designed to increase the access of low-income students to rigorous and engaging pre-advanced placement and advanced placement coursework in STEM.

Absolute Priority 2: Expanding Access for Low-Income Individuals to Advanced Placement Programs

This priority supports projects that expand access for low-income individuals to advanced placement programs by—

(1) Demonstrating an intent to carry out activities that target schools with a high concentration of low-income students (as defined in the notice) or local educational agencies (LEAs) serving schools with a high concentration of low-income students;

(2) Demonstrating a pervasive need for access to advanced placement incentive programs;

(3) Demonstrating a focus on developing or expanding advanced placement programs and participation in the core academic areas of English, mathematics, and science;

(4) Involving business and community organizations in the activities to be assisted;

(5) Assuring the availability of matching funds from State, local, or other sources to pay for the costs of activities to be assisted; and

(6) Demonstrating an intent to carry out activities to increase the availability of, and participation in, on-line advanced placement courses.

Note: In responding to this absolute priority, an application must—

(1) Identify the specific schools (both middle and high schools) that would receive project services, and provide evidence that each school currently (i.e., during the 2010-11 school year) has a high concentration of low-income students; and

(2) Identify the amount and sources of matching funds. Consistent with 20 U.S.C. 6536, matching contributions under the API program must be resources that add “new monies” to an applicant's current level of funding for advanced placement activities.

Competitive Preference Priority: For FY 2011 and any subsequent year in which we make awards from the list of unfunded applicants from this competition, this priority is a competitive preference priority. Under 34 CFR 75.105(c)(2)(i) we award an additional five points to an application that meets this priority.

This priority is:

Turning Around Persistently Lowest-Achieving Schools

Projects that are designed to address the following priority area:

Providing services to students enrolled in persistently lowest-achieving schools (as defined in this notice).

Note: To meet this competitive preference priority, the applicant must provide evidence in its application that its proposed project will serve one or more persistently lowest-achieving schools.

Definitions: The following definitions are taken from the API program authorizing statute in section 1707 of the ESEA (20 U.S.C. 6537) and the 2010 NFP.

Advanced placement test means an advanced placement test administered by the College Board or approved by the Secretary (20 U.S.C. 6537).

Note: The Secretary approves as advanced placement tests International Diploma Programme examinations administered by the International Baccalaureate Organization, and Cambridge International A and AS Levels administered by Cambridge University International Examinations. As part of the grant application process, applicants may request approval of tests from other educational entities that provide comparable programs of rigorous academic courses and testing through which students may earn college credit.

High concentration of low-income students, used with respect to a school, means a school that serves a student population 40 percent or more of whom are low-income individuals (20 U.S.C. 6537).

Low-income individual means an individual who is determined by a State educational agency (SEA) or LEA to be a child, ages 5 through 19, from a low-income family, on the basis of data used by the Secretary to determine allocations under section 1124 of the ESEA, data on children eligible for free or reduced-price lunches under the National School Lunch Act, data on children in families receiving assistance under Part A of title IV of the Social Security Act, or data on children eligible to receive medical assistance under the medicaid program under title XIX of the Social Security Act, or through an alternate method that combines or extrapolates from those data (20 U.S.C. 6537).

Persistently lowest-achieving schools means, as determined by the State: (i) Any Title I school in improvement, corrective action, or restructuring that (a) is among the lowest-achieving five percent of Title I schools in improvement, corrective action, or restructuring or the lowest-achieving five Title I schools in improvement, corrective action, or restructuring in the State, whichever number of schools is greater; or (b) is a high school that has had a graduation rate as defined in 34 CFR 200.19(b) that is less than 60 percent over a number of years; and (ii) any secondary school that is eligible for, but does not receive, Title I funds that: (a) Is among the lowest-achieving five percent of secondary schools or the lowest-achieving five secondary schools in the State that are eligible for, but do not receive, Title I funds, whichever number of schools is greater; or (b) is a high school that has had a graduation rate as defined in 34 CFR 200.19(b) that is less than 60 percent over a number of years.

To identify the persistently lowest achieving schools, a State must take into account both: (i) The academic achievement of the “all students” group in a school in terms of proficiency on the State's assessments under section 1111(b)(3) of the ESEA in reading/language arts and mathematics combined; and (ii) the school's lack of progress on those assessments over a number of years in the “all students” group (NFP 2010).

Program Authority: 20 U.S.C. 6531-6532; 6535-6537.

Applicable Regulations: (a) The Education Department General Administrative Regulations (EDGAR) in 34 CFR parts 74, 75, 77, 79, 80, 81, 82, 84, 85, 97, 98, and 99. (b) The notice of final supplemental priorities and definitions for discretionary grant programs published in the Federal Register on December 15, 2010 (75 FR 78486).

II. Award Information

Type of Award: Discretionary grants.

Estimated Available Funds: The Administration's budget request for FY 2011 does not include funds for this program. In place of this and several other narrowly targeted programs that seek to improve student achievement in high schools or provide an accelerated curriculum, the Administration has proposed to create, through the reauthorization of the ESEA reauthorization, a broader program, College Pathways and Accelerated Learning, that would support efforts to increase preparation for college matriculation and success through the introduction of advanced courses in high-poverty middle and high schools as well as other accelerated curriculum options (such as dual high school/college enrollment and early college schools) in those schools. However, we are inviting applications for the API program to allow enough time to complete the grant process if Congress appropriates funds for this program.

Contingent upon the availability of funds and the quality of applications, we may make additional awards in FY 2012 from the list of unfunded applicants from this competition.

Estimated Range of Awards: $200,000-$650,000.

Estimated Average Size of Awards: $425,000.

Maximum Award: We will reject any application that proposes a budget exceeding $650,000 for a single budget period of 12 months. The Assistant Secretary for Elementary and Secondary Education may change the maximum amount through a notice published in the Federal Register.

Estimated Number of Awards: 17.

Note: The Department is not bound by any estimates in this notice.

Project Period: Up to 36 months.

III. Eligibility Information

1. Eligible Applicants

(a) SEAs;

(b) LEAs, including charter schools that are considered LEAs under State law; or

(c) National nonprofit educational entities with expertise in advanced placement services.

Note: In the case of an eligible entity that is an SEA, the SEA may use API grant funds to award subgrants to LEAs to enable those LEAs to carry out authorized activities that support the absolute priorities for this competition.

2.a. Cost Sharing or Matching: In order to meet Absolute Priority 2: Expanding Access for Low-Income Individuals to Advanced Placement Programs for this competition, an applicant must provide matching funds from State, local, or other sources to pay for the costs of activities to be assisted.

b. Supplement-Not-Supplant: This program involves supplement-not-supplant funding requirements. Funds provided under this program must be used only to supplement, and not supplant, other non-Federal funds that are available to assist low-income individuals to pay for the cost of advanced placement test fees or to expand access to advanced placement or pre-advanced placement courses (20 U.S.C. 6536). This restriction also has the effect of allowing projects to recover indirect costs only on the basis of a restricted indirect cost rate, according to the requirements in 34 CFR 75.563 and 34 CFR 76.564 through 76.569.

IV. Application and Submission Information

1. Address to Request Application Package: You can obtain an application package via the Internet, or from the program office.

To obtain a copy via the Internet, use the following address: http://www.ed.gov/fund/grant/apply/grantapps/index.html.

To obtain a copy from the program office, contact: Ivonne Jaime, U.S. Department of Education, 400 Maryland Avenue, SW., LBJ Building, Room 3E310, Washington, DC 20202-6200. Telephone: (202) 260-1519 or by e-mail: AdvancedPlacementProgram@ed.gov.

If you use a telecommunications device for the deaf (TDD), call the Federal Relay Service (FRS), toll free, at: 1-800-877-8339.

Individuals with disabilities can obtain a copy of the application package in an accessible format (e.g., braille, large print, audiotape, or computer diskette) by contacting the program contact person listed in this section.

2. Content and Form of Application Submission: Requirements concerning the content of an application, together with the forms you must submit, are in the application package for this program.

Notice of Intent to Apply: We will be able to develop a more efficient process for reviewing grant applications if we have a better understanding of the number of entities that intend to apply for funding. Therefore, we strongly encourage each potential applicant to send a notification of its intent to apply for funding to AdvancedPlacementProgram@ed.gov by April 15, 2011. The notification of intent to apply for funding is optional. Applicants that do not supply this e-mail notification may still apply for funding.

Page Limit: The application narrative is where you, the applicant, address the selection criteria that reviewers use to evaluate your application. We encourage you to limit the narrative to the equivalent of no more than 40 pages and suggest that you use the following standards:

• A “page” is 8.5″ x 11″, on one side only, with 1″ margins at the top, bottom, and both sides.

• Double space (no more than three lines per vertical inch) all text in the application narrative. Titles, headings, footnotes, quotations, references, and captions, as well as text in charts, tables, figures, and graphs, can be single spaced.

• Use a font that is either 12 point or larger or no smaller than 10 pitch (characters per inch).

• Use one of the following fonts: Times New Roman, Courier, Courier New, or Arial.

• Number all pages consecutively using the style 1 of 40, 2 of 40, and so forth.

• Include a table of contents with page references.

The suggested page limit does not apply to the table of contents; forms; the budget section, including the narrative budget justification; the assurances and certifications; the one-page abstract; the resumes; or the letters of support. However, the suggested page limit does apply to all of the application narrative section. We further encourage applicants to limit to no more than 20 pages any attachments or appendices that are not resumes or letters of support.

3. Submission Dates and Times:

Applications Available: March 16, 2011.

Deadline for Notice of Intent to Apply: April 15, 2011.

Deadline for Transmittal of Applications: May 16, 2011.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: July 14, 2011.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined in the Grants.gov 3-Step Registration Guide (see http://www.grants.gov/section910/Grants.govRegistrationBrochure.pdf).

7. Other Submission Requirements: Applications for grants under this competition must be submitted electronically unless you qualify for an exception to this requirement in accordance with the instructions in this section.

a. Electronic Submission of Applications

Applications for grants under the API program, CFDA number 84.330C, must be submitted electronically using the Governmentwide Grants.gov Apply site at www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the API program at http://www.Grants.gov. You must search for the downloadable application package for this program by the CFDA number. Do not include the CFDA number's alpha suffix in your search (e.g., search for 84.330, not 84.330C).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a .PDF (Portable Document) format only. If you upload a file type other than a .PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Ivonne Jaime, U.S. Department of Education, 400 Maryland Avenue, SW., room 3E310, Washington, DC 20202-4260. FAX: (202) 205-4921.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address:

U.S. Department of Education, Application Control Center, Attention: (CFDA Number 84.330C) LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (CFDA Number 84.330C), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and, where otherwise noted, sections 1702 and 1705 of the ESEA (20 U.S.C. 6532 and 6535) and are listed in the following paragraphs.

Note: The maximum score for all selection criteria is 95 points. The points assigned to each criterion or subcriterion are indicated in parentheses.

Need for the Project

In determining the need for the proposed project, we will consider the extent to which the application demonstrates a pervasive need for access to advanced placement incentive programs by low-income individuals (10 points) (20 U.S.C. 6535(c)(1)).

Quality of Project Design

In determining the quality of the design of the proposed project, we will consider the following factors:

(1) The extent to which the goals, objectives, and outcomes to be achieved by the proposed project are clearly specified and measurable (10 points).

(2) The extent to which the proposed project demonstrates a focus on developing or expanding advanced placement programs and participation in the core academic areas of English, mathematics, and science (15 points) (20 U.S.C. 6532(c)(4).

(3) The extent to which the proposed project will expand access to and participation in advanced placement incentive programs, particularly for low-income individuals (10 points) (20 U.S.C. 6535(d)(F)).

(4) The extent to which the proposed project will increase the numbers of students who receive advanced placement test scores for which college academic credit is awarded (10 points) (20 U.S.C. 6532(7)).

(5) The extent to which the proposed project is part of a comprehensive effort to improve teaching and learning and support rigorous academic standards for students (15 points).

Quality of the Management Plan

In determining the quality of the management plan for the proposed project, we will consider the following factors:

(1) The adequacy of the management plan to achieve the objectives of the proposed project on time and within budget, including clearly defined responsibilities, timelines, and milestones for accomplishing project tasks (10 points).

(2) The extent to which the time commitments of the project director and principal investigator and other key project personnel are appropriate and adequate to meet the objectives of the proposed project (5 points).

(3) Consistent with 34 CFR 75.209(a)(1)(iv), the extent to which the applicant demonstrates that it will have the capacity to report annually the data required by section 1705(f) of the ESEA and section VI. 5. (Performance Measures) of this notice (10 points).

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section of this notice and include these and other specific conditions in the GAN. The GAN also incorporates your approved application as part of your binding commitments under the grant.

3. Transparency: After awards are made under this competition, all of the applications selected for funding, together with reviewer scores and comments for those applications, will be posted on the Department's Web site.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

5. Performance Measures: The Department has established two performance measures for assessing the effectiveness of the API program in improving the successful participation in advanced placement courses and tests by students attending public high schools served by API grants. These measures are:

(1) The ratio of Advanced Placement (AP), International Baccalaureate (IB), and other advanced placement tests recognized by the Secretary taken in public high schools served by API grants to the number of seniors enrolled at those high schools.

(2) The ratio of AP, IB, and other approved advanced placement tests passed (AP tests receiving scores of 3 or higher, IB tests receiving scores of 4 or higher, or other advanced placement tests receiving equivalent scores) by low-income students in public high schools served by API grants to the number of low-income seniors enrolled at those schools.

These measures constitute the Department's measures of success for this program. Consequently, applicants for a grant under this program are advised to give careful consideration to these measures in identifying their goals and objectives and conceptualizing the approach and evaluation of their proposed projects. If funded, applicants will be asked to collect and report data in their performance and final reports about progress with respect to these measures. In addition, applicants will also be asked to collect and report data in their performance and final reports on the statutorily mandated reporting requirements outlined in section 1705(f) of the ESEA.

6. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

7. Grant Administration: Projects funded under this competition are encouraged to budget for a two-day meeting for project directors to be held annually in Washington, DC.

VII. Agency Contact

FOR FURTHER INFORMATION CONTACT: Ivonne Jaime, U.S. Department of Education, 400 Maryland Avenue, SW., LBJ Building, room 3E310, Washington, DC 20202-6200. Telephone: (202) 260-1519 or by e-mail: AdvancedPlacementProgram@ed.gov.

If you use a TDD, call the FRS, toll free, at 1-800-877-8339.

VIII. Other Information

Alternative Format: Individuals with disabilities can obtain this document and a copy of the application package in an accessible format (e.g., braille, large print, audiotape, or computer diskette) on request to the program contact person listed under FOR FURTHER INFORMATION CONTACT in section VII of this notice.

Electronic Access to This Document: You can view this document, as well as all other documents of this Department published in the Federal Register, in extr Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available via the Federal Digital System at: http://www.gpo.gov/fdsys.

Dated: March 11, 2011.
Thelma Meléndez de Santa Ana,
Assistant Secretary for Elementary and Secondary Education.

[FR Doc. 2011-6138 Filed 3-15-11; 8:45 am]

BILLING CODE 4000-01-P